SECURITIES AND EXCHANGE COMMISSION

Sunshine Act Meetings

Notice is hereby given, pursuant to the provisions of the Government in the Sunshine Act, Pub. L. 94-409, that the Securities and Exchange Commission will hold the following meetings during the week of April 7, 2003:

Closed meetings will be held on Tuesday, April 8, 2003, at 2:30 p.m. and Friday, April 11, 2003, at 11 a.m. An open meeting will be held on Friday, April 11, 2003, at 10 a.m. in Room 1C30, the William O. Douglas Room.

Commissioners, Counsel to the Commissioners, the Secretary to the Commission, and recording secretaries will attend the closed meetings. Certain staff members who have an interest in the matters may also be present.

Commissioner Campos, as duty officer, determined that no earlier notice thereof was possible.

The General Counsel of the Commission, or his designee, has certified that, in his opinion, one or more of the exemptions set forth in 5 U.S.C. 552b(c)(3), (5), (7), (9)(B) and (10) and 17 CFR 200.402(a)(3), (5), (7), (9)(ii) and (10), permit consideration of the scheduled matters at the closed meetings.

The subject matter of the closed meeting scheduled for Tuesday, April 8, 2003, will be:

Formal Orders of Investigation;

Institution and settlement of administrative proceedings of an enforcement nature;

Institution and settlement of injunctive actions.

The subject matter of the open meeting scheduled for Friday, April 11, 2003, will be:

The Commission will hear oral argument on an appeal by Monetta Financial Services, Inc. (“MFS”), a registered investment adviser, Robert S. Bacarella, the president and a director of MFS, and Richard D. Russo, an independent trustee of the Monetta Trust, from an administrative law judge's initial decision.

The law judge found that respondents violated section 17(a) of the Securities Act of 1933, section 10(b) of the Securities Exchange Act of 1934, and Exchange Act rule 10b-5. The law judge further found that Bacarella aided, abetted, and was the cause of MFS” willful violations of sections 206(1) and 206(2) of the Investment Advisers Act of 1940. The law judge ordered respondents to cease and desist from these violations; suspended Bacarella from association with any investment adviser or registered investment company for 90 days, and fined him $100,000; suspended Russo from association with any registered investment company for 30 days, fined him $25,000, and ordered him to pay disgorgement of $28,823, plus prejudgment interest; and censured MFS, and fined the firm $200,000.

The Commission will consider the following issues:

(1) Whether respondents committed the alleged violations;

(2) Whether Robert S. Bacarella aided, abetted, or was a cause of MFS” violations of section 206 of the Investment Advisers Act of 1940; and

(3) If so, whether sanctions are appropriate and in the public interest.

The subject matter of the closed meeting scheduled for April 11, 2003, will be:

Post-argument Discussion.

At times, changes in Commission priorities require alterations in the scheduling of meeting items. For further information and to ascertain what, if any, matters have been added, deleted, or postponed, please contact:

The Office of the Secretary at (202) 942-7070.

Dated: April 2, 2003.
Jonathan G. Katz,
Secretary.

[FR Doc. 03-8434 Filed 4-2-03; 4:05 pm]

BILLING CODE 8010-01-P